DEPARTMENT OF TRANSPORTATION

Maritime Administration

[Docket No: MARAD 2006-24149]

Availability of a Draft FONSI/FONPA

AGENCY: Department of Transportation, Maritime Administration.

ACTION: Notice of the Availability of a draft Finding of No Significant Impact/Finding of No Practicable Alternative.

SUMMARY: The purpose of this Notice is to make available to the public the draft Finding of No Significant Impact/Finding of No Practicable Alternative (FONSI/FONPA) for the Port of Anchorage Intermodal Expansion, North End Runway Material Extraction and Transport Project (Project).

A draft Environmental Assessment (EA), dated March 2006, was prepared that analyzed the potential impacts on the human and natural environment associated with the proposed material extraction activities at the North End Borrow Site and potential transportation corridors located on Elmendorf Air Force Base (EAFB). A final EA and a final FONSI/FONPA will be published once comments have been properly addressed. This environmental documentation supports the proposed expansion of the Port of Anchorage (POA), which includes a variety of activities to enhance the transportation of goods and people within the State of Alaska.

DATES: Comments on this draft FONSI/FONPA must be received by May 24, 2006.

ADDRESSES: You may submit comments [identified by DOT DMS Docket Number MARAD-2006-24149] by any of the following methods:

• Web site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal Holidays.

Instructions: All submissions must include the agency name and docket number for this action. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

FOR FURTHER INFORMATION CONTACT: Daniel E. Yuska, Jr., Environmental Protection Specialist, Office of Environmental Activities, U.S. Maritime Administration, 400 Seventh Street, SW., Washington, DC 20590; telephone (202) 366-0714, fax (202) 366-6988.

SUPPLEMENTARY INFORMATION: An electronic version of this document and all documents entered into this docket are available at http://dms.dot.gov. In addition, copies of the EA are available for public viewing on the Port of Anchorage Web site (www.portofanchorage.org) or at the Loussac Library in Anchorage.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 CFR 1.66.

Dated: April 18, 2006.
By Order of the Maritime Administrator.
Joel C. Richard,
Secretary, Maritime Administration.

[FR Doc. E6-6038 Filed 4-21-06; 8:45 am]

BILLING CODE 4910-81-P